DEPARTMENT OF COMMERCE

International Trade Administration

A-428-830

Stainless Steel Bar from Germany: Notice of Correction of Preliminary Results of the New Shipper Review

AGENCY: Import Administration, International Trade Administration, Department of Commerce.

EFFECTIVE DATE: June 15, 2007.

FOR FURTHER INFORMATION CONTACT: Damian Felton or Brandon Farlander, AD/CVD Operations, Office 1, Import Administration, International Trade Administration, U.S. Department of Commerce, 14th Street and Constitution Avenue, NW, Washington DC 20230; telephone (202) 482-0133 or (202) 482-0182, respectively.

Correction:

On March 19, 2007, the Department of Commerce (“the Department”) published the preliminary results of the new shipper review for stainless steel bar from Germany. See Stainless Steel Bar from Germany: Preliminary Results of New Shipper Review, 72 FR 12765 (March 19, 2007) (“Preliminary Results”). Subsequent to publication of the Preliminary Results, we identified an inadvertent error in the number of days specified for the issuance of the final results of this new shipper review.

On page 12767, in the first column, under the heading “Preliminary Results of Review,” on the 36th line, the following sentence should read, “The Department will issue final results of this new shipper review, including the results of our analysis of the issues raised in any such written comments or at a hearing, within 120 days of publication of these preliminary results.”

Conclusion

This notice serves solely to correct the number of days specified for the issuance of the final results of this new shipper review as it was listed in the Preliminary Results (90 to 120 days). The Department's findings in the Preliminary Results remain unchanged. This notice is issued and published in accordance with section 777(i) of the Tariff Act of 1930, as amended.

Dated: June 11, 2007.
Stephen J. Claeys,
Deputy Assistant Secretary for Import Administration.

[FR Doc. E7-11583 Filed 6-14-07; 8:45 am]

BILLING CODE 3510-DS-S